FEDERAL COMMUNICATIONS COMMISSION

47 CFR Parts 0, 1, 2, 90 and 95

[WT Docket No. 01-90; ET Docket No. 98-95; RM-9096; FCC 03-324]

Dedicated Short Range Communication Services and Mobile Service for Dedicated Short Range Communications of Intelligent Transportation Service in the 5.850-5.925 GHz Band (5.9 GHz Band)

AGENCY: Federal Communications Commission.

ACTION: Final rule.

SUMMARY: In this document the Commission adopts licensing and service rules for the Dedicated Short Range Communications Service (DSRCS) in the Intelligent Transportation Systems (ITS) Radio Service in the 5.850-5.925 GHz band (5.9 GHz band). This action promotes a nationwide solution to the transportation safety challenges faced by all Americans and follows the Commission's earlier allocation of this radio spectrum for DSRCS.

DATES: Effective October 4, 2004. The incorporation by reference of a certain publication listed in the regulations is approved by the Director of the Federal Register as of October 4, 2004.

FOR FURTHER INFORMATION CONTACT: Zenji Nakazawa via phone at (202) 418-0680, via e-mail at Zenji.Nakazawa@fcc.gov, via TTY (202) 418-7233, Wireless Telecommunications Bureau, Federal Communications Commission, Washington, DC 20554.

SUPPLEMENTARY INFORMATION: This is a summary of the Commission's Report and Order, FCC 03-324, adopted on December 17, 2003, and released on February 10, 2004. The full text of this document is available for inspection and copying during normal business hours in the FCC Reference Center, 445 12th Street, SW., Washington, DC 20554. The complete text may be purchased from the Commission's copy contractor, Qualex International, 445 12th Street, SW., Room CY-B402, Washington, DC 20554. The full text may also be downloaded at: http://www.fcc.gov. Alternative formats are available to persons with disabilities by contacting Brian Millin at (202) 418-7426 or TTY (202) 418-7365 or at brian.millin@fcc.gov.

1. In the Report and Order, the Commission makes the following major decisions: (i) The U.S. Department of Transportation envisions DSRC units in every new motor vehicle for life-saving communications. To ensure interoperability and robust safety/public safety communications among these DSRC devices nationwide, the Commission adopts the standard supported by most commenters and developed under an accredited standard setting process (ASTM E2213-03 or “ASTM-DSRC”); (ii) the Commission concludes that it is possible to license both public safety and non-public safety use of the 5.9 GHz band. Accordingly, it adopts open eligibility for licensing and technical rules, most of which are embodied in the ASTM-DSRC standard, aimed at creating a framework that ensures priority for public safety communications; (iii) the Commission will license DSRC Roadside Units (RSUs), communication units that are fixed along the roadside, under subpart M (Intelligent Transportation Radio Service) of part 90 of the Commission's Rules. Licensees will receive non-exclusive geographic-area licenses authorizing operation on seventy megahertz of the 5.9 GHz band. It also adopts a framework whereby licensees would register RSUs by site and segment(s); (iv) the Commission licenses On-Board Units (OBUs), in-vehicle communications units, by rule under new subpart L of Part 95 of our Rules.

I. Final Regulatory Flexibility Analysis (FRFA)

2. As required by the Regulatory Flexibility Act of 1980, as amended (RFA) (see 5 U.S.C. 603. The RFA, see 5 U.S.C. 601-612, has been amended by the Small Business Regulatory Enforcement Fairness Act of 1996 (SBREFA), Pub. L. 104-121, Title II, 110 Stat. 847 (1996)) an Initial Regulatory Flexibility Analysis (IRFA) was incorporated in the Notice of Proposed Rule Making (NPRM), 68 FR 1999, January 15, 2003, in this proceeding, WT Docket. No. 01-90. The Commission sought written public comment on the proposals in the NPRM, including comment on the IRFA. No comments were submitted specifically in response to the IRFA. This present FRFA conforms to the RFA.

Need for, and Objectives of the Proposed Rules

3. In the Report and Order, we adopt licensing, service, and operating rules for the 5.850-5.925 GHz band for use by Dedicated Short Range Communications (DSRC) Services in the provision of Intelligent Transportation Systems (ITS) services. DSRC communications are used for the wireless transfer of data over short distances between roadside and mobile units, between mobile units, and between portable and mobile units to perform operations related to the improvement of traffic flow, traffic safety, and other intelligent transportation service applications in a variety of environments. This action is taken in response to the Transportation Equity Act for the 21st Century, which requires the Commission, in consultation with the Secretary of the United States Department of Transportation (DOT), to consider the spectrum needs for DSRC. This action will assist DOT's goal of using advanced electronics and technology to increase the safety and efficiency of the nation's surface transportation system.

Summary of Significant Issues Raised by Public Comments in Response to the IRFA

4. No comments were submitted specifically in response to the IRFA. Generally, the comments supported permitting both public safety and non-public safety uses in the 5.9 GHz band, with non-public safety uses secondary. Commenters supported the adoption of the ASTM-DSRC Standard into the Commission's Rules. They further supported site-based licensing, frequency coordination, and the use of the Universal Licensing System.

Description and Estimate of the Number of Small Entities to Which Rules Will Apply

5. The RFA directs agencies to provide a description of and, where feasible, an estimate of the number of small entities that may be affected by the proposed rules, if adopted. The RFA defines the term “small entity” as having the same meaning as the terms “small business,” “small organization,” and “small governmental jurisdiction.” In addition, the term “small business” has the same meaning as the term “small business concern” under the Small Business Act. A small business concern is one which: (i) Is independently owned and operated; (ii) is not dominant in its field of operation; and (iii) satisfies any additional criteria established by the Small Business Administration (SBA). A small organization is generally “any not-for-profit enterprise which is independently owned and operated and is not dominant in its field.” Nationwide, as of 1992, there were approximately 275,801 small organizations. The term “small governmental jurisdiction” is defined as “governments of cities, towns, townships, villages, school districts, or special districts, with a population of less than fifty thousand.” As of 1997, there were about 87,453 governmental jurisdictions in the United States. This number includes 39,044 county governments, municipalities, and townships, of which 37,546 (approximately 96.2%) have populations of fewer than 50,000, and of which 1,498 have populations of 50,000 or more. Thus we estimate the number of small governmental jurisdictions overall to be 84,098 or fewer.

6. The rules we adopt today will affect users of public safety radio services. These rules may also affect manufacturers of radio communications equipment. We also note that nationwide, there are approximately 22.4 million small businesses, total, according to the SBA data.

Small Businesses Sharing Spectrum With Public Safety Radio Services and Governmental Entities

7. As a general matter, Public Safety Radio Services include police, fire, local government, forestry conservation, highway maintenance, and emergency medical services. Private entities that use DSRC-based ITS applications may be licensed in the 5.9 GHz band on a secondary basis to public safety radio services.

Wireless Service Providers

8. The SBA has developed a small business size standard for wireless small businesses within the two separate categories of paging 1 and cellular and other wireless telecommunications. Under both SBA categories, a wireless business is small if it has 1,500 or fewer employees. According to the Commission's most recent data, 1,761 companies reported that they were engaged in the provision of wireless service. Of these 1,761 companies, an estimated 1,175 have 1,500 or fewer employees and 586 have more than 1,500 employees. Consequently, the Commission estimates that most wireless service providers are small entities that may be affected by the rules and policies adopted herein.

9. The Commission has not developed a definition of small entities specifically applicable to Dedicated Short-Range Communications Manufacturers (DSRC Manufacturers). However, the SBA has established a small business size standard for Radio and Television Broadcasting and Wireless Communications Equipment Manufacturing. Under this standard, firms are considered small if they have 750 or fewer employees. Census data for 1997 indicate that, for that year, there were a total of 1,215 establishments in this category. Of those, there were 1,150 that had employment under 500, and an additional 37 that had employment of 500 to 999. The percentage of wireless equipment manufacturers to total manufacturers in this category is approximately 61.35%, so we estimate that the number of wireless equipment manufacturers with employment under 500 was actually closer to 706, with an additional 23 establishments having employment of between 500 and 999. Given the above, we estimate that the majority of wireless communications equipment manufacturers are small.

Description of Projected Reporting, Recordkeeping, and Other Compliance Requirements

10. Applicants for licenses to provide DSRC operations in the 5.9 GHz band those licensees must submit license applications through the Universal Licensing System using Form 601, and follow the service rules at 47 CFR part 90. These licenses are not subject to spectrum auctions although, they will be subject to licensing and regulatory fees.

Steps Taken To Minimize Significant Economic Impact on Small Entities, and Significant Alternatives Considered

11. The RFA requires an agency to describe any significant alternatives that it has considered in reaching its determinations, which may include the following four alternatives, among others: (i) The establishment of differing compliance or reporting requirements or timetables that take into account the resources available to small entities; (ii) the clarification, consolidation, or simplification of compliance or reporting requirements under the rule for small entities; (iii) the use of performance, rather than design standards; and (iv) an exemption from coverage of the rule, or any part thereof, for small entities. Regarding our decision to permit open eligibility for licensing in the 5.9 GHz, see Report and Order at paragraphs 50-51. We do not believe that there will be any significant effect on small entities. Any interested and qualified entity may apply for a license. Regarding our decision to use non-exclusive geographic area licensing, see Report and Order at paragraphs 57 through 59. We do not believe that there will be any significant adverse effect on small entities. We believe that this licensing approach will actually benefit small entities by enabling them to obtain licenses to provide a DSRC service. We further believe this decision benefits small entities by eliminating the costs associated with frequency coordination. Because of the short range of this service (less than 1000 meters), resulting in relatively lower costs, we believe that small entities will be attracted to this service. Regarding our decision to require the use of the ASTM-DSRC Standard, see Report and Order paragraphs 18 through 22. We do not believe that there will be any adverse effect on small entities. We believe that this decision will benefit small entities. We required the ASTM-DSRC Standard for all DSRC operations in the 5.9 GHz band, which we anticipate will, in turn, reduce the cost of the DSRC devices.

Report to Congress

12. The Commission will send a copy of the Report and Order, including this FRFA, in a report to be sent to Congress pursuant to the Congressional Review Act. In addition, the Commission will send a copy of this Report and Order, including this FRFA, to the Chief Counsel for Advocacy of the Small Business Administration.

II. Ordering Clauses

13. Accordingly, it is ordered that, pursuant to Sections 1, 4(i), 302, 303(f) and (r), and 332 of the Communications Act of 1934, as amended, 47 U.S.C. 1, 154(i), 302, 303(f) and (r), and 332, this Report and Order is adopted.

14. It is further ordered that parts 0, 1, 2, 90, and 95 of the Commission's Rules are amended as specified in rule changes of the Report and Order, effective October 4, 2004.

15. It is further ordered that the Commission's Consumer and Governmental Affairs Bureau, Reference Information Center, shall send a copy of this Report and Order, including the Final Regulatory Flexibility Analysis, to the Chief Counsel for Advocacy of the U.S. Small Business Administration.

List of Subjects

47 CFR Part 0

Reporting and recordkeeping requirements.

47 CFR Parts 1 and 90

Incorporation by Reference, Radio, Reporting and recordkeeping requirements.

47 CFR Parts 2 and 95

Communications equipment, Incorporation by Reference, Radio, Reporting and recordkeeping requirements.

Federal Communications Commission.
Marlene H. Dortch,
Secretary.

Rule Changes

For the reasons discussed in the preamble, the Federal Communications Commission amends 47 CFR parts 0, 1, 2, 90 and 95 as follows:

PART 0—COMMISSION ORGANIZATION

1. The authority citation for part 0 continues to read as follows:

Authority: Sections 5, 48 Stat. 1068, as amended; 47 U.S.C. 155, 225, unless otherwise noted.

2. Section 0.331 is amended by revising paragraph (d) introductory text to read as follows:

§ 0.331 Authority delegated.

* * * * *

(d) Authority concerning rulemaking proceedings. The Chief, Wireless Telecommunications Bureau shall not have the authority to act upon notices of proposed rulemaking and inquiry, final orders in rulemaking proceedings and inquiry proceedings, and reports arising from any of the foregoing except such orders involving ministerial conforming amendments to rule parts, or orders conforming any of the applicable rules to formally adopted international conventions or agreements where novel questions of fact, law, or policy are not involved. In addition, revisions to the airport terminal use list in § 90.35(c)(61) of this chapter and revisions to the Government Radiolocation list in § 90.371(b) of this chapter need not be referred to the Commission. Also, the addition of new Marine VHF frequency coordination committee(s) to § 80.514 of this chapter need not be referred to the Commission if they do not involve novel questions of fact, policy or law, as well as requests by the United States Coast Guard to:

* * * * *

PART 1—PRACTICE AND PROCEDURE

3. The authority citation for part 1 continues to read as follows:

Authority: 47 U.S.C. 47 U.S.C. 151, 154(i), 154(j), 155, 225, 303(r), 309 and 325(e).

4. Paragraph (d) of § 1.946 is amended by adding the following sentence at the end of paragraph (d) to read as follows:

§ 1.946 Construction and coverage requirements.

* * * * *

(d) * * * This notification requirement is not applicable to authorizations subject to post-license registration requirements under the Dedicated Short-Range Communication Service (DSRCS), subpart M of part 90 of this chapter.

* * * * *

PART 2—FREQUENCY ALLOCATIONS AND RADIO MATTERS; GENERAL RULES AND REGULATIONS

5. The authority citation for part 2 continues to read as follows:

Authority: 47 U.S.C. 154, 302a, 303, and 336, unless otherwise noted.

6. Section 2.106, the Table of Frequency Allocations, is amended by revising page 57 to read as follows:

§ 2.106 Table of Frequency Allocations

* * * * *

BILLING CODE 6712-01-P

* * * * *

PART 90—PRIVATE LAND MOBILE RADIO SERVICES

7. The authority citation for part 90 continues to read as follows:

Authority: Sections 4(i), 11, 303(g), 303(r) and 332(c)(7) of the Communications Act of 1934, as amended, 47 U.S.C. 154(i), 161, 303(g), 303(r), 332(c)(7).

8. Section 90.7 is amended by revising the definition of “Dedicated Short Range Communications Services” and adding the definitions of “Communications Zone,” “On-Board Unit (OBU),” “Roadside Unit (RSU),” and “Roadway bed surface” in alphabetical order to read as follows:

§ 90.7 Definitions.

* * * * *

Dedicated Short-Range Communications Services (DSRCS). The use of radio techniques to transfer data over short distances between roadside and mobile units, between mobile units, and between portable and mobile units to perform operations related to the improvement of traffic flow, traffic safety, and other intelligent transportation service applications in a variety of environments. DSRCS systems may also transmit status and instructional messages related to the units involved.

* * * * *

Communications zone. The service area associated with an individual fixed Roadside Unit (RSU). The communications zone is determined based on the RSU equipment class specified in section 90.375.

* * * * *

On-Board unit (OBU). An On-Board Unit is a DSRCS transceiver that is normally mounted in or on a vehicle, or which in some instances may be a portable unit. An OBU can be operational while a vehicle or person is either mobile or stationary. The OBUs receive and contend for time to transmit on one or more radio frequency (RF) channels. Except where specifically excluded, OBU operation is permitted wherever vehicle operation or human passage is permitted. The OBUs mounted in vehicles are licensed by rule under part 95 of this chapter and communicate with Roadside Units (RSUs) and other OBUs. Portable OBUs are also licensed by rule under part 95 of this chapter. OBU operations in the Unlicensed National Information Infrastructure (UNII) Bands follow the rules in those bands.

* * * * *

Roadside unit (RSU). A Roadside Unit is a DSRC transceiver that is mounted along a road or pedestrian passageway. An RSU may also be mounted on a vehicle or is hand carried, but it may only operate when the vehicle or hand-carried unit is stationary. Furthermore, an RSU operating under this part is restricted to the location where it is licensed to operate. However, portable or hand-held RSUs are permitted to operate where they do not interfere with a site-licensed operation. A RSU broadcasts data to OBUs or exchanges data with OBUs in its communications zone. An RSU also provides channel assignments and operating instructions to OBUs in its communications zone, when required.

Roadway bed surface. For DSRCS, the road surface at ground level.

9. Section 90.20 is amended by adding the following in the table at paragraph (c)(3) before the entry referencing the 10,550 to 10,680 band, and adding a new paragraph (d)(86) to read as follows:

§ 90.20 Public Safety Pool.

* * * * *

(c) * * *

(3) Frequencies.

Public Safety Pool Frequency Table
Frequency or band | Class of station(s) | Limitations | Coordinator
Megahertz
* * * * * * *
5850-5925 | Base or mobile | 86 | Not applicable.
* * * * * * *

* * * * *

(d) * * *

(86) Subpart M of this part contains rules for assignment of frequencies in the 5850-5925 MHz band.

* * * * *

10. Section 90.35 is amended by adding the entry of “5850-5925” before the entry referencing the 10,550 to 10,680 band in paragraph (b)(3), and adding a new paragraph (c)(90) to read as follows:

§ 90.35 Industrial/Business Pool.

* * * * *

(b) * * *

(3) Frequencies.

Industrial/Business Pool Frequency Table
Frequency or band | Class of station(s) | Limitations | Coordinator
* * * * * * *
5850-5925 | ......do | 90 | Not applicable.
* * * * * * *

* * * * *

(c) * * *

(90) Subpart M of this part contains rules for assignment of frequencies in the 5850-5925 MHz band.

11. Section 90.149 is amended by adding paragraph (b) to read as follows:

§ 90.149 License term.

* * * * *

(b) Non-exclusive geographic area licenses for DSRCS Roadside Units (RSUs) in the 5850-5925 MHz band will be issued for a term not to exceed ten years from the date of original issuance or renewal. The registration dates of individual RSUs (see § 90.375) will not change the overall renewal period of the single license.

* * * * *

12. Section 90.155 is amended by adding paragraph (i) to read as follows:

§ 90.155 Time in which station must be placed in operation.

* * * * *

(i) DSRCS Roadside Units (RSUs) in the 5850-5925 MHz band must be placed in operation within 12 months from the date of registration (see § 90.375) or the authority to operate the RSUs cancels automatically (see § 1.955 of this chapter). Such registration date(s) do not change the overall renewal period of the single license.

13. Section 90.157 is revised to read as follows:

§ 90.157 Discontinuance of station operation.

(a) A station license shall cancel automatically upon permanent discontinuance of operations. Unless stated otherwise in this part or in a station authorization, for the purposes of this section, any station which has not operated for one year or more is considered to have been permanently discontinued.

(b) For DSRCS Roadside Units (RSUs) in the 5850-5925 MHz band, it is the DSRCS licensee's responsibility to delete from the registration database any RSUs that have been discontinued.

14. Section 90.175(j) is amended by revising paragraph (j)(16) to read as follows:

§ 90.175 Frequency coordination requirements.

* * * * *

(j) * * *

(16) Applications for DSRCS licenses (as well as registrations for Roadside Units) in the 5850-5925 GHz band.

* * * * *

15. Section 90.179 is amended by revising paragraph (f) to read as follows:

§ 90.179 Shared use of radio stations.

* * * * *

(f) Above 800 MHz, shared use on a for-profit private carrier basis is permitted only by SMR, Private Carrier Paging, LMS, and DSRCS licensees. See subparts M, P, and S of this part.

* * * * *

16. Section 90.205 is amended by revising paragraph (p) to read as follows:

§ 90.205 Power and antenna height limits.

* * * * *

(p) 5850-5925 MHz. Power and height limitations are specified in subpart M of this part.

* * * * *

17. Section 90.210 is amended by revising the entry for “5850-5925 MHz” and adding footnote 4 in the table and by revising paragraphs (k)(3) introductory text and (k)(4) to read as follows:

§ 90.210 Emission masks.

* * * * *

Applicable Emission Masks
Frequency band (MHz) | Mask for equipment with audio low pass filter | Mask for equipment without audio low pass filter
* * * * * |  |
5850-5925 ⁴ |
⁴ DSRCS Roadside Units equipment in the 5850-5925 MHz band is governed under subpart M of this part.

* * * * *

(k) * * *

(3) Other transmitters. For all other transmitters authorized under subpart M that operate in the 902-928 MHz band, the peak power of any emission shall be attenuated below the power of the highest emission contained within the licensee's sub-band in accordance with the following schedule:

* * * * *

(4) In the 902-928 MHz band, the resolution bandwidth of the instrumentation used to measure the emission power shall be 100 kHz, except that, in regard to paragraph (2) of this section, a minimum spectrum analyzer resolution bandwidth of 300 Hz shall be used for measurement center frequencies with 1 MHz of the edge of the authorized subband. The video filter bandwidth shall not be less than the resolution bandwidth.

* * * * *

18. Section 90.213 is amended by revising footnote 10 of the table to read as follows:

§ 90.213 Frequency stability.

* * * * *

¹⁰ Except for DSRCS equipment in the 5850-5925 MHz band, frequency stability is to be specified in the station authorization. Frequency stability for DSRCS equipment in the 5850-5925 MHz band is specified in subpart M of this part.

* * * * *

19. Subpart M, is amended by adding the following undesignated center heading before § 90.371 to read as follows:

* * * * *

Regulations Governing the Licensing and Use of Frequencies in the 5850-5925 MHz Band for Dedicated Short-Range Communications Service (DSRCS)

* * * * *

20. Section 90.371 is amended by revising paragraphs (a) and (b) introductory text and adding paragraph (c) to read as follows:

§ 90.371 Dedicated short-range communications service (DSRCS).

(a) These provisions pertain to systems in the 5850-5925 MHz band for Dedicated Short-Range Communications Service (DSRCS). DSRCS systems use radio techniques to transfer data over short distances between roadside and mobile units, between mobile units, and between portable and mobile units to perform operations related to the improvement of traffic flow, traffic safety, and other intelligent transportation service applications in a variety of environments. DSRCS systems may also transmit status and instructional messages related to the units involved. DSRCS Roadside Units are authorized under this part. DSRCS On-Board Units are authorized under part 95 of this chapter.

(b) DSRCS Roadside Units (RSUs) operating in the band 5850-5925 MHz shall not receive protection from Government Radiolocation services in operation prior to the establishment of the DSRCS station. Operation of DSRCS RSU stations within 75 kilometers of the locations listed in the table below must be coordinated through the National Telecommunications and Information Administration.

* * * * *

(c) NTIA may authorize additional Government Radiolocation services. Once a new Federal assignment is made, the Commission's Universal Licensing System database will be updated, accordingly, to protect the new Federal assignment and the list in paragraph (b) of this section will be updated as soon as practicable.

21. Add § 90.373 to read as follows:

§ 90.373 Eligibility in the DSRCS.

The following entities are eligible to hold an authorization to operate Roadside units in the DSRCS:

(a) Any territory, possession, state, city, county, town or similar governmental entity.

(b) Any entity meeting the eligibility requirements of §§ 90.33 or 90.35.

22. Add § 90.375 to read as follows:

§ 90.375 RSU license areas, communication zones and registrations

(a) DSRCS Roadside Units (RSUs) in the 5850-5925 MHz band are licensed on the basis of non-exclusive geographic areas. Governmental applicants will be issued a geographic area license based on the geo-political area encompassing the legal jurisdiction of the entity. All other applicants will be issued a geographic area license for their proposed area of operation based on county(s), state(s) or nationwide.

(b) Applicants who are approved in accordance with FCC Form 601 will be granted non-exclusive licenses for all non-reserved DSRCS frequencies (see § 90.377). Such licenses serve as a prerequisite of registering individual RSUs located within the licensed geographic area described in paragraph (a) of this section. Licensees must register each RSU in the Universal Licensing System (ULS) before operating such RSU. RSU registrations are subject, inter alia, to the requirements of § 1.923 of this chapter as applicable (antenna structure registration, environmental concerns, international coordination, and quiet zones). Additionally, RSUs at locations subject to NTIA coordination (see § 90.371(b) may not begin operation until NTIA approval is received. Registrations are not effective until the Commission posts them on the ULS.

(c) Licensees must operate each RSU in accordance with the Commission's Rules and the registration data posted on the ULS for such RSU. Licensees must register each RSU for the smallest communication zone needed (for the DSRC-based intelligent transportation systems application) using one of the following four communication zones:

RSU class | Max. output power (dBm) ¹ | Communications zone (meters)
A | 0 | 15
B | 10 | 100
C | 20 | 400
D | 28.8 | 1000
¹ The ASTM-DSRC Standard is incorporated by reference in accordance with 5 U.S.C. 552(a) and 1 CFR part 51 and approved by The Director of the Federal Register. Copies may be inspected at the Federal Communications Commission, 445 12th Street, SW., Washington, DC 20554 or National Archives and Records Administration (NARA). For information on the availability of this material at NARA, call 202-741-6030, or go to: http://www.archives.gov/federal_register/code_of_federal_regulations/ibr _locations.html. Copies of the ASTM E2213-03 DSRC Standard can be obtained from ASTM International, 100 Barr Harbor Drive, PO Box C700, West Conshohocken, PA 19428-2959. Copies may also be obtained from ASTM via the Internet at http://www.astm.org. The ASTM-DSRC Standard limits output power to 28.8 dBm but allows more power to overcome cable losses to the antenna as long as the antenna input power does not exceed 28.8 dBm and the EIRP does not exceed 44.8 dBm. However, specific channels and categories of uses have additional limitations under the ASTM-DSRC Standard.

23. Add § 90.377 to read as follows:

§ 90.377 Frequencies available; maximum EIRP and antenna height, and priority communications.

(a) Licensees shall transmit only the power (EIRP) needed to communicate with an OBU within the communications zone and must take steps to limit the Roadside Unit (RSU) signal within the zone to the maximum extent practicable.

(b) Frequencies available for assignment to eligible applicants within the 5850-5925 MHz band for RSUs and the maximum EIRP permitted for an RSU with an antenna height not exceeding 6 meters above the roadway bed surface are specified in the table. Where two EIRP limits are given, the higher limit is permitted only for state or local governmental entities.

Channel No. | Frequency range (MHz) | Max. EIRP ¹ (dBm) | Channel use
170 | 5850-5855 |  | Reserved.
172 | 5855-5865 | 33 | Service Channel.
174 | 5865-5875 | 33 | Service Channel.
175 | 5865-5885 | 23 | Service Channel. ²
176 | 5875-5885 | 33 | Service Channel.
178 | 5885-5895 | 33 / 44.8 | Control channel.
180 | 5895-5905 | 23 | Service Channel.
181 | 5895-5915 | 23 | Service Channel. ²
182 | 5905-5915 | 23 | Service Channel.
184 | 5915-5925 | 33 / 40 | Service Channel.
¹ An RSU may employ an antenna with a height exceeding 6 meters but not exceeding 15 meters provided the EIRP specified in the table above is reduced by a factor of 20 log(Ht/6) in dB where Ht is the height of the radiation center of the antenna in meters above the roadway bed surface. The EIRP is measured as the maximum EIRP toward the horizon or horizontal, whichever is greater, of the gain associated with the main or center of the transmission beam. The RSU antenna height shall not exceed 15 meters above the roadway bed surface.
² Channel Nos. 174/176 may be combined to create a twenty megahertz channel, designated Channel No. 175. Channels 180/182 may be combined to create a twenty-megahertz channel, designated Channel No. 181.

(c) Except as provided in paragraphs (d) and (e) of this section, non-reserve DSRCS channels are available on a shared basis only for use in accordance with the Commission's Rules. All licensees shall cooperate in the selection and use of channels in order to reduce interference. This includes monitoring for communications in progress and any other measures as may be necessary to minimize interference. Licensees of RSUs suffering or causing harmful interference within a communications zone are expected to cooperate and resolve this problem by mutually satisfactory arrangements. If the licensees are unable to do so, the Commission may impose restrictions including specifying the transmitter power, antenna height and direction, additional filtering, or area or hours of operation of the stations concerned. Further the use of any channel at a given geographical location may be denied when, in the judgment of the Commission, its use at that location is not in the public interest; the use of any channel may be restricted as to specified geographical areas, maximum power, or such other operating conditions, contained in this part or in the station authorization.

(d) Safety/public safety priority. The following access priority governs all DSRCS operations:

(1) communications involving the safety of life have access priority over all other DSRCS communications;

(2) subject to a Control Channel priority system management strategy (see ASTM E2213-03 DSRC Standard at § 4.1.1.2(4)) DSRCS communications involving public safety have access priority over all other DSRC communications not listed in paragraph (d)(1) of this section. Roadside Units (RSUs) operated by state or local governmental entities are presumptively engaged in public safety priority communications.

(e) Non-priority communications. DSRCS communications not listed in paragraph (d) of this section are non-priority communications. If a dispute arises concerning non-priority communications, the licensee of the later-registered RSU must accommodate the operation of the early registered RSU, i.e., interference protection rights are date-sensitive, based on the date that the RSU is first registered (see § 90.375) and the later registered RSU must modify its operations to resolve the dispute in accordance with paragraph (f) of this section.

(f) Except as otherwise provided in the ASTM-DSRC Standard, as incorporated by reference pursuant to 5 U.S.C. 552(a) and 1 CFR part 51 and approved by the Director of the Federal Register, copies may be inspected at the Federal Communications Commission, 445 12th Street, SW, Washington, DC 20554 or National Archives and Records Administration (NARA). For information on the availability of this material at NARA, call 202-741-6030, or go to: http://www.archives.gov/federal_register/code_of_federal_regulations/ibr _locations.html. Copies of the ASTM E2213-03 DSRC Standard can be obtained from ASTM International, 100 Barr Harbor Drive, PO Box C700, West Conshohocken, PA 19428-2959. Copies may also be obtained from ASTM via the Internet at http://www.astm.org. Except as provided in the ASTM-DSRC Standard for the purposes of paragraph (e) of this section objectionable interference will be considered to exist when the Commission receives a complaint and the difference in signal strength between the earlier-registered RSU and the later-registered RSU (anywhere within the earlier-registered RSU's communication zone) is 18 dB or less (co-channel). Later-registered RSUs causing objectionable interference must correct the interference immediately unless written consent is obtained from the licensee of the earlier-registered RSU.

24. Add § 90.379 to read as follows:

§ 90.379 ASTM E2213-03 DSRC Standard (ASTM-DSRC Standard).

Roadside Units operating in the 5850-5925 MHz band shall comply with the following technical standard, which is incorporated by reference: American Society for Testing and Materials (ASTM) E2213-03, “Standard Specification for Telecommunications and Information Exchange Between Roadside and Vehicle Systems—5 GHz Band Dedicated Short Range Communications (DSRC) Medium Access Control (MAC) and Physical Layer (PHY) Specifications” published September 2003 (ASTM E2213-03 DSRC Standard). The Director of the Federal Register approves this incorporation by reference in accordance with 5 U.S.C. 552(a) and 1 CFR part 51. Copies may be inspected at the Federal Communications Commission, 445 12th Street, SW., Washington, DC 20554 or National Archives and Records Administration (NARA). For information on the availability of this material at NARA, call 202-741-6030, or go to: http://www.archives.gov/federal_register/code_of_federal_regulations/ibr_locations.html. Copies of the ASTM E2213-03 DSRC Standard can be obtained from ASTM International, 100 Barr Harbor Drive, PO Box C700, West Conshohocken, PA 19428-2959. Copies may also be obtained from ASTM via the Internet at http://www.astm.org.

25. Add Section 90.383 to read as follows:

§ 90.383 RSU sites near the U.S./Canada or U.S./Mexico border.

Until such time as agreements between the United States and Canada or the United States and Mexico, as applicable, become effective governing border area use of the 5850-5925 MHz band for DSRCS, authorizations to operate Roadside Units (RSUs) are granted subject to the following conditions:

(a) RSUs must not cause harmful interference to stations in Canada or Mexico that are licensed in accordance with the international table of frequency allocations for Region 2 (see § 2.106 of this chapter) and must accept any interference that may be caused by such stations.

(b) Authority to operate DSRCS Roadside Units is subject to modifications and future agreements between the United States and Canada or the United States and Mexico, as applicable.

26. Section 90.425(d) is amended by adding paragraph (d)(10) to read as follows:

§ 90.425 Station identification.

* * * * *

(d) * * *

(10) It is a Roadside Unit in a DSRCS system.

* * * * *

PART 95—PERSONAL RADIO SERVICES

1. The authority citation for part 95 continues to read as follows:

Authority: Sections 4, 303, 48 Stat. 1066, 1082, as amended; 47 U.S.C. 154, 303.

2. Section 95.401 is amended by adding paragraph (g) to read as follows:

§ 95.401 (CB Rule 1) What are the Citizens Band Radio Services?

* * * * *

(g) Dedicated Short-Range Communications Service On-Board Units (DSRCS-OBUs). The rules for this service are contained in subpart L of this part. DSRCS-OBUs may communicate with DSRCS Roadside Units (RSUs), which are authorized under part 90 of this chapter. DSRCS, RSU, and OBU are defined in § 90.7 of this chapter.

27. Section 95.601 is revised to read as follows:

§ 95.601 Basis and purpose.

This section provides the technical standards to which each transmitter (apparatus that converts electrical energy received from a source into RF (radio frequency) energy capable of being radiated) used or intended to be used in a station authorized in any of the Personal Radio Services must comply. This section also provides requirements for obtaining certification for such transmitters. The Personal Radio Services are the GMRS (General Mobile Radio Service)—subpart A, the Family Radio Service (FRS)—subpart B, the R/C (Radio Control Radio Service)—subpart C, the CB (Citizens Band Radio Service)—subpart D, the Low Power Radio Service (LPRS)—subpart G, the Wireless Medical Telemetry Service (WMTS)—subpart H, the Medical Implants Communication Service (MICS)—subpart I, the Multi-Use Radio Service (MURS)—subpart J, and Dedicated Short-Range Communications Service On-Board Units (DSRCS-OBUs)—subpart L.

28. Section 95.603 is amended by adding a new paragraph (h) to read as follows:

§ 95.603 Certification required.

* * * * *

(h) Each Dedicated Short-Range Communications Service On-Board Unit (DSRCS-OBU) that operates or is intended to operate in the DSRCS (5.850-5.925 GHz) must be certified in accordance with subpart L of this part and subpart J of part 2 of this chapter.

29. Section 95.605 is revised to read as follows:

§ 95.605 Certification procedures.

Any entity may request certification for its transmitter when the transmitter is used in the GMRS, FRS, R/C, CB, IVDS, LPRS, MURS, or MICS following the procedures in part 2 of this chapter. Medical implant transmitters shall be tested for emissions and EIRP limit compliance while enclosed in a medium that simulates human body tissue in accordance with the procedures in § 95.639(g). Frequency stability testing for MICS transmitters shall be performed over the temperature range set forth in § 95.628. Dedicated Short-Range Communications Service On-Board Units (DSRCS-OBUs) must be certified in accordance with subpart L of this part and subpart J of part 2 of this chapter.

30. Section 95.631 is amended by adding a new paragraph (k) to read as follows:

§ 95.631 Emission types.

* * * * *

(k) DSRCS-OBUs are governed under subpart L of this part.

31. Section 95.633 is amended by adding paragraph (g) to read as follows:

§ 95.633 Emission bandwidth.

* * * * *

(g) DSRCS-OBUs are governed under subpart L of this part.

32. Section 95.635 is amended by adding a DSRC-OBU designation to the Table in paragraph (b) and by adding paragraph (f) to read as follows:

§ 95.635 Unwanted radiation.

* * * * *

(b) * * *

Transmitter | Emission type | Applicable paragraphs (b)
* * * * *
DSRCS-OBU | As specified in paragraph (f) of this section.

* * * * *

(f) DSRCS-OBUs are governed under subpart L of this part.

33. Section 95.637 is amended by adding paragraph (f) to read as follows:

§ 95.637 Modulation standards.

* * * * *

(f) DSRCS-OBUs are governed under subpart L of this part.

34. Section 95.639 is amended by adding a new paragraph (i) to read as follows:

§ 95.639 Maximum transmitter power.

* * * * *

(i) DSRCS-OBUs are governed under subpart L of this part, except the maximum output power for portable DSRCS-OBUs is 1.0 mW. For purposes of this paragraph, a portable is a transmitting device designed to be used so that the radiating structure(s) of the device is/are within 20 centimeters of the body of the user.

35. Add § 95.643 after the existing undesignated center heading “Certification Requirements” to read as follows:

§ 95.643 DSRCS-OBU certification.

Sections 95.645 through 95.655 do not apply to certification of DSRCS-OBUs. DSRCS-OBUs must be certified in accordance with subpart L of this part and subpart J of part 2 of this chapter.

36. Part 95 is amended by adding a new Subpart L to read as follows:

Subpart L—Dedicated Short Range Communications Service On-Board Units (DSRCS-OBUs)
Sec.
95.1501 Scope.
95.1503 Eligibility.
95.1505 Authorized locations.
95.1507 Station Identification.
95.1509 ASTM E2213-03 DSRC Standard.
95.1511 Frequencies available.

Subpart L—Dedicated Short-Range Communications Service On-Board Units (DSRCS-OBUs)

§ 95.1501 Scope.

This subpart sets out the regulations governing Dedicated Short-Range Communications Service On-Board Units (DSRCS-OBUs) in the 5850-5925 MHz band. DSRCS Roadside Units (RSUs) are authorized under part 90 of this chapter and DSRCS, RSU, and OBU are defined in § 90.7 of this chapter.

§ 95.1503 Eligibility.

All entities for which the Commission has licensing authority are authorized by rule to operate an FCC certified On-Board Unit in accordance with the rules contained in this subpart. No individual FCC license will be issued. (The FCC does not have authority to license foreign governments or their representatives, nor stations belonging to and operated by the United States Government.)

§ 95.1505 Authorized locations.

Operation of DSRCS On-Board Units is authorized anywhere CB station operation is permitted under § 95.405.

§ 95.1507 Station Identification.

A DSRCS On-Board Unit is not required to transmit an FCC station identification announcement.

§ 95.1509 ASTM E2213-03 DSRC Standard.

On-Board Units operating in the 5850-5925 MHz band shall comply with the following technical standards, which are incorporated by reference: American Society for Testing and Materials (ASTM) E2213-03, Standard Specification for Telecommunications and Information Exchange Between Roadside and Vehicle Systems—5 GHz Band Dedicated Short Range Communications (DSRC) Medium Access Control (MAC) and Physical Layer (PHY) Specifications published September 2003 (ASTM E2213-03 DSRC Standard). The Director of the Federal Register approves this incorporation by reference in accordance with 5 U.S.C. 552(a) and 1 C.F.R. part 51. Copies may be inspected at the Federal Communications Commission, 445 12th Street, SW., Washington, DC 20554 or National Archives and Records Administration (NARA). For information on the availability of this material at NARA, call 202-741-6030, or go to: http://www.archives.gov/federal_register/code_of_federal_regulations/ibr _locations.html. Copies of the ASTM E2213-03 DSRC Standard can be obtained from ASTM International, 100 Barr Harbor Drive, PO Box C700, West Conshohocken, PA 19428-2959. Copies may also be obtained from ASTM via the Internet at http://www.astm.org.

§ 95.1511 Frequencies available.

(a) The following table indicates the channel designations of frequencies available for assignment to eligible applicants within the 5850-5925 MHz band for On-Board Units (OBUs): ¹

¹ The maximum output power for portable DSRCS-OBUs is 1.0 mW. See § 95.639(i).

Channel no. | Channel use | Frequency range (MHz)
170 | Reserved | 5850-5855
172 | Service Channel | 5855-5865
174 | Service Channel | 5865-5875
175 | Service Channel ² | 5865-5885
176 | Service Channel | 5875-5885
178 | Control channel | 5885-5895
180 | Service Channel | 5895-5905
181 | Service Channel ² | 5895-5915
182 | Service Channel | 5905-5915
184 | Service Channel | 5915-5925
² Channel Nos. 174/176 may be combined to create a twenty megahertz channel, designated Channel No. 175. Channels 180/182 may be combined to create a twenty-megahertz channel, designated Channel No. 181.

(b) Except as provided in paragraph (c) of this section, non-reserve DSRCS channels are available on a shared basis only for use in accordance with the Commission's Rules. All licensees shall cooperate in the selection and use of channels in order to reduce interference. This includes monitoring for communications in progress and any other measures as may be necessary to minimize interference. Licensees suffering or causing harmful interference within a communications zone are expected to cooperate and resolve this problem by mutually satisfactory arrangements. If the licensees are unable to do so, the Commission may impose restrictions including specifying the transmitter power, antenna height and direction, additional filtering, or area or hours of operation of the stations concerned. Further the use of any channel at a given geographical location may be denied when, in the judgment of the Commission, its use at that location is not in the public interest; the use of any channel may be restricted as to specified geographical areas, maximum power, or such other operating conditions, contained in this part or in the station authorization.

(c) Safety/public safety priority. The following access priority governs all DSRCS operations:

(1) Communications involving the safety of life have access priority over all other DSRCS communications;

(2) Subject to a Control Channel priority system management strategy (see ASTM E2213-03 DSRC Standard at § 4.1.1.2(4)) DSRCS communications involving public safety have access priority over all other DSRC communications not listed in paragraph (c)(1) of this section. On-Board Units (OBUs) operated by state or local governmental entities are presumptively engaged in public safety priority communications.

(d) Non-priority communications. DSRCS communications not listed in paragraph (c) of this section are non-priority communications. If a dispute arises concerning non-priority DSRCS-OBU communications with Roadside Units (RSUs), the provisions of §§ 90.377(e) and (f) of this chapter will apply. Disputes concerning non-priority DSRCS-OBU communications not associated with RSUs are governed by paragraph (b) of this section.

[FR Doc. 04-16087 Filed 8-02-04; 8:45 am]

BILLING CODE 6712-01-C